DEPARTMENT OF THE INTERIOR

National Park Service

[2280-665]

National Register of Historic Places; Notification of Pending Nominations and Related Actions

Nominations for the following properties being considered for listing or related actions in the National Register were received by the National Park Service before November 20, 2010. Pursuant to sections 60.13 or 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by December 29, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/ National Historic Landmarks Program.

CALIFORNIA

San Francisco County

Rialto Building, 116 New Montgomery St, San Francisco, 10001108

San Joaquin County

Harmony Grove Church, 11455 E Locke Rd, Lockeford, 10001103

INDIANA

Hendricks County

Danville Courthouse Square Historic District, Roughly bounded by Clinton, Tennessee, Broadway, and Cross Sts, Danville, 02001559

NEW JERSEY

Mercer County

Delaware Inn, 1030 Lamberton St, Trenton, 10001109

NORTH CAROLINA

Franklin County

Perry School, 2266 Laurel Mill-Centerville Rd, Centerville, 10001110

Wake County

Battery Heights Historic District, (Post-World War II and Modern Architecture in Raleigh, North Carolina, 1945-1965, MPS), Bounded roughly by E Martin St on the N, Battery Dr on the E, E Davie St on the S, and Sherrybrook Dr on the W, Raleigh, 10001111

Capitol Heights Historic District, (Post-World War II and Modern Architecture in Raleigh, North Carolina, 1945-1965), Roughly bounded by Penn Rd, N State St, Glascock St, and Madison Rd, Raleigh, 10001112

Longview Gardens Historic District, (Post-World War II and Modern Architecture in Raleigh, North Carolina, 1945-1965), Bounded roughly by King Charles Rd, Poole Rd, Donald Ross Dr, Albemarle Ave, Longview Lake Dr, and New Bern Ave, Raleigh, 10001113

PENNSYLVANIA

Montgomery County

Souderton Historic District, Roughly bounded by Railroad Ave, E Broad St, Noble St, Spruce Alley, S Front St, Washington Ave, Souderton, 10001107

PUERTO RICO

Aguada Municipality, Puente de Coloso, (Historic Bridges of Puerto Rico MPS), State Road No. 418, km.5, Guanabano, 10001102

WASHINGTON

King County

First Methodist Episcopal Church, 801 Fifth Ave, Seattle, 10001105

Pacific County

Ilwaco Railway and Navigation Co—NAHCOTTA (Railway Car), 115 SE Lake St, Ilwaco, 10001106

Spokane County

Rogers, John R., High School, 1622 E Wellesley Ave, Spokane, 10001104

[FR Doc. 2010-31252 Filed 12-13-10; 8:45 am]

BILLING CODE 4312-51-P